DEPARTMENT OF THE TREASURY

Financial Crimes Enforcement Network; Proposed Collection; Comment Request; Registration of Money Services Business—Accompanied by FinCEN Form 107, Registration of Money Services Business

AGENCY: Financial Crimes Enforcement Network (“FinCEN”), Treasury.

ACTION: Notice and request for comments.

SUMMARY: As part of its continuing effort to reduce paperwork and respondent burden, FinCEN invites comment on a proposed information collection contained in a revised form, Registration of Money Services Business, FinCEN Form 107 (formerly Form TD F 90-22.53). The form will be used by currency dealers or exchangers; check cashers; issuers of traveler's checks, money orders or stored value; sellers of traveler's checks, money orders or stored value; redeemers of traveler's checks, money orders or stored value; and money transmitters to register with the Department of the Treasury as required by statute. This request for comments is being made pursuant to the Paperwork Reduction Act of 1995, Public Law 104-13, 44 U.S.C. 3506(c)(2)(A).

DATES: Written comments are welcome and must be received on or before July 12, 2004.

ADDRESSES: Written comments should be submitted to: Office of Chief Counsel, Financial Crimes Enforcement Network, Department of the Treasury, P.O. Box 39, Vienna, Virginia 22183, Attention: PRA Comments—MSB Registration-Form 107. Comments also may be submitted by electronic mail to the following Internet address: regcomments@fincen.treas.gov, again with a caption, in the body of the text, “Attention: PRA Comments—MSB Registration-Form 107.”

Inspection of comments. Comments may be inspected, between 10 a.m. and 4 p.m., in the FinCEN reading room in Washington, DC. Persons wishing to inspect the comments submitted must request an appointment by telephoning (202) 354-6400.

FOR FURTHER INFORMATION CONTACT: Thomas Gormley, Regulatory Compliance Program Specialist, Office of Regulatory Programs, FinCEN, at (202) 354-6400; or Cynthia Clark, Office of Chief Counsel, FinCEN, at (703) 905-3590.

SUPPLEMENTARY INFORMATION: Title: Registration of Money Services Business.

OMB Number: 506-0013.

Form Number: FinCEN Form 107.

Abstract: The statute generally referred to as the “Bank Secrecy Act,” Titles I and II of Public Law 91-508, as amended, codified at 12 U.S.C. 1829b, 12 U.S.C. 1951-1959, and 31 U.S.C. 5311-5330, authorizes the Secretary of the Treasury, inter alia, to issue regulations requiring records and reports that are determined to have a high degree of usefulness in criminal, tax, and regulatory matters. Regulations implementing Title II of the Bank Secrecy Act (codified at 31 U.S.C. 5311-5330) appear at 31 CFR Part 103. The authority of the Secretary to administer the Bank Secrecy Act has been delegated to the Director of FinCEN.

Under 31 U. S. C. 5330 and its implementing regulations, money services businesses must register with the Department of the Treasury, maintain a list of their agents, and renew their registration every two years. Currently, money services businesses register by filing Form TD F 90-22.55, which is being revised, as explained below. The information collected on the revised form is required to comply with 31 U. S. C. 5330 and its implementing regulations. The information will be used to assist supervisory and law enforcement agencies in the enforcement of criminal, tax, and regulatory laws and to prevent money services businesses from use by those engaging in money laundering. The collection of information is mandatory.

Money services businesses are advised that the draft form that appears at the end of this notice is presented only for purposes of soliciting public comment on the draft form. They should not use the draft form to register, renew, correct a prior report, or re-register with Treasury. A final version of the draft form will be made available at a later date. In the meantime, money services businesses can use the current Form TD F 90-22.55.

Current Actions: Current Form TD F 90-22.55 is renamed as FinCEN Form 107 and is revised as follows. The box for “Date of Filing” is deleted. Minor editorial changes are made to the check boxes describing the type of filing, for example, initial registration, to clarify the form. Box 22—identifying information such as driver's license number or passport number—will no longer have to be completed if Box 21—taxpayer identification number—is completed. The list of money services business activities for both the registrant and its agents is changed to break out redeemers of traveler's check and redeemers of money orders as separate selections. A new question is added asking whether or not any part of the business is an informal value transfer system. Item headings are modified and instructions are added to the form to provide more specific guidance on how to fill out the form.

Type of Review: Revision of currently approved collection report.

Affected public: Individuals, business or other for-profit institutions, and not-for-profit institutions.

Frequency: As required.

Estimated Burden: Reporting average of 30 minutes per response; recordkeeping average of 30 minutes per response.

Estimated number of respondents: 17,000.

Estimated Total Annual Burden Hours: 17,000 hours.

An agency may not conduct or sponsor, and a person is not required to respond to, a collection of information unless the collection of information displays a valid OMB control number. Records required to be retained under the Bank Secrecy Act must be retained for five years. Generally, information collected pursuant to the Bank Secrecy Act is confidential, but may be shared as provided by law with regulatory and law enforcement authorities.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected: (d) ways to minimize the burden of the collection of information on respondents, including through the use of automated collection techniques or other forms of information technology; and (e) estimates of capital or start-up costs and costs of operation, maintenance and purchase of services to provide information.

Dated: April 27, 2004.
William J. Fox,
Director, Financial Crimes Enforcement Network.
Attachments: Registration of Money Services Business, FinCEN Form 107, and instructions.

BILLING CODE 4810-02-P

[FR Doc. 04-10549 Filed 5-10-04; 8:45 am]

BILLING CODE 4810-02-P